DEPARTMENT OF HEALTH AND HUMAN SERVICES

Centers for Medicare & Medicaid Services

42 CFR Part 413

[CMS-1351-CN]

RIN 0938-AQ29

Medicare Program; Prospective Payment System and Consolidated Billing for Skilled Nursing Facilities for FY 2012; Correction

AGENCY: Centers for Medicare & Medicaid Services (CMS), HHS.

ACTION: Final rule; correction.

SUMMARY: This document corrects technical errors in the final rule entitled “Medicare Program; Prospective Payment System and Consolidated Billing for Skilled Nursing Facilities for FY 2012” that appeared in the August 8, 2011 Federal Register.

DATES: Effective Date: This correction is effective October 1, 2011.

FOR FURTHER INFORMATION CONTACT: John Kane, (410) 786-0557.

SUPPLEMENTARY INFORMATION:

I. Background

In FR Doc. 2011-19544 of August 8, 2011 (76 FR 48486), there were three technical errors that are identified and corrected in the Correction of Errors section of this document. The corrections in this correction document are effective as if they had been included in the August 8, 2011 Federal Register document. Accordingly, the corrections are effective October 1, 2011.

II. Summary of Errors

The Addendum to the Skilled Nursing Facility (SNF) Prospective Payment System (PPS) final rule (76 FR 48486, 48540) inadvertently included several technical errors in wage index values in Table A (“FY 2012 Wage Index for Urban Areas Based on CBSA Labor Market Areas”) and Table B (“FY 2012 Wage Index Based on CBSA Labor Market Areas for Rural Areas”). Tables A and B provide the urban and rural wage index values, respectively, that are used to calculate the labor-related portion of the FY 2012 payment rate for SNFs. We inadvertently omitted corrected wage and geographic classification data for two providers from the final FY 2012 wage index database that should have been included in the wage index calculation of the FY 2012 payment rates for SNFs. This resulted in incorrect wage index values being displayed in Table A for two CBSAs. Therefore, we are correcting the wage index values for those two CBSAs in Table A of the Addendum, in order to reflect the hospital wage index's most current wage data. The first correction in Table A of the Addendum (76 FR 48546) involves the wage index for CBSA 20020 (Dothan, AL-Geneva County, AL-Henry County, AL-Houston County, AL), and reflects the receipt of revised wage data from an Alabama provider. The second correction in Table A of the Addendum (76 FR 48552) involves the wage index for CBSA 33740 (Monroe, LA-Ouachita Parish, LA-Union Parish, LA), and reflects a change in geographic classification for a Louisiana provider.

Finally, in Table B of the Addendum (76 FR 48561), we are correcting the wage index value for State Code 19 (Louisiana), in order to reflect the previously-cited change in geographic classification for a Louisiana provider. As these revisions involve only a limited number of individual entries in Tables A and B, we are not republishing these tables in their entirety in this document; however, we note that the corrected versions of both tables are available on the SNF PPS Web site, which can be accessed online at http://www.cms.gov/SNFPPS/.

III. Waiver of Proposed Rulemaking and Delayed Effective Date

We ordinarily publish a notice of proposed rulemaking in the Federal Register to provide a period for public comment before the provisions of a rule take effect in accordance with section 553(b) of the Administrative Procedure Act (APA) (5 U.S.C. 553(b)). However, we can waive this notice and comment procedure if we find, for good cause, that the notice and comment process is impracticable, unnecessary, or contrary to the public interest, and incorporate a statement of the finding and the reasons therefore in the document.

We also ordinarily provide a 30-day delay in the effective date of the provisions of a notice in accordance with section 553(d) of the APA (5 U.S.C. 553(d)). However, we can waive this delay if we find good cause and publish in the notice an explanation of our good cause.

We find for good cause that it is unnecessary to undertake notice and comment rulemaking because this document merely provides technical corrections to the FY 2012 SNF PPS final rule. We are not making substantive changes to our payment methodologies or policies, but rather, are simply implementing correctly the payment methodologies and policies that we previously proposed, received comment on, and subsequently finalized. This correction document is intended solely to ensure that the FY 2012 SNF PPS final rule accurately reflects these payment methodologies and policies. Therefore, we believe that undertaking further notice and comment rulemaking activity in connection with it would be unnecessary and contrary to the public interest.

Further, we believe a delayed effective date is unnecessary because this correction document merely corrects inadvertent technical errors. The changes noted above do not make any substantive changes to the SNF PPS payment methodologies or policies. Moreover, we regard imposing a delay in the effective date as being contrary to the public interest. We believe that it is in the public interest for providers to receive appropriate SNF PPS payments in as timely a manner as possible and to ensure that the FY 2012 SNF PPS final rule accurately reflects our payment methodologies, payment rates, and policies. Therefore, we find good cause to waive notice and comment procedures, as well as the 30-day delay in effective date.

IV. Correction of Errors

In FR Doc. 2011-19544 of August 8, 2011 (76 FR 48486), make the following corrections:

1. On page 48546, in Table A (“FY 2012 Wage Index for Urban Areas Based on CBSA Labor Market Areas”), in the first set of columns, in the eighth row (CBSA 20020), third column, the wage index “0.7130” is corrected to read “0.7390”.

2. On page 48552, in Table A, in the second set of columns, in the fifth row (CBSA 33740), third column, the wage index “0.7915” is corrected to read “0.7964”.

3. On page 48561, in Table B (“FY 2012 Wage Index Based on CBSA Labor Market Areas for Rural Areas”), in the second set of columns, in the 19th row (State Code 19 (Louisiana)), third column, the wage index “0.7769” is corrected to read “0.7749”.

(Catalog of Federal Domestic Assistance Program No. 93.773, Medicare—Hospital Insurance; and Program No. 93.774, Medicare—Supplementary Medical Insurance Program)

Dated: September 16, 2011.
Barbara J. Holland,
Deputy Executive Secretary to the Department.

[FR Doc. 2011-24670 Filed 9-23-11; 8:45 am]

BILLING CODE 4120-01-P